ENVIRONMENTAL PROTECTION AGENCY

40 CFR Parts 122 and 450

[FRL-7257-1]

RIN 2040-AD42

Effluent Limitation Guidelines and New Source Performance Standards for the Construction and Development Category; Public Meetings and Change of Location for Water Docket

AGENCY: Environmental Protection Agency (EPA).

ACTION: Proposed rule.

SUMMARY: EPA is announcing public information meetings and a change in the location of the Water Docket.

DATES: The public meetings will be held on Thursday, September 5, 2002 and September 18, 2002. The Water Docket will be closed during August 12 to 26, 2002 and will open at a new location on August 27, 2002. See “Supplementary Information” for detailed information.

FOR FURTHER INFORMATION CONTACT: Eric Strassler, EPA, e-mail strassler.eric@epa.gov or telephone 202-566-1026.

SUPPLEMENTARY INFORMATION: EPA published a proposed rule for the Construction and Development Category on June 24, 2002 (67 FR 42644) and is conducting public meetings. No registration is required for these meetings. Seating will be provided on a first-come, first-served basis.

• Thursday, September 5, 2002. 9 a.m.-noon. Sheraton Atlanta Hotel, 165 Courtland St., Atlanta, GA. Phone 404-659-6500.

• Wednesday, September 18, 2002. 9 a.m.-noon. EPA East Building, Room 1153, 1201 Constitution Avenue, NW., Washington, DC. Please note that parking is very limited in downtown Washington and use of public transit is recommended. The EPA Headquarters complex is located near the Federal Triangle Metro subway station. Upon exiting the Metro station, walk on 12th Street to Constitution Avenue, and turn right to proceed to the EPA East Building entrance.

Meeting Access: If you need special accommodations at these meetings, including wheelchair access, please contact the Eastern Research Group Conference Registration Line at 781-674-7374, at least five business days before the meeting so that appropriate arrangements can be made.

During the meetings, EPA will present information on the applicability of the proposed regulation, the technology options selected as the basis for the proposed limitations and standards, and the compliance costs and pollutant reductions. EPA will also allow time for questions and answers during these sessions. These meetings are not public hearings for the purpose of obtaining comment on the proposal. EPA will not generate a transcript of the meetings. The public may submit written comments by mail or electronically as described in the June 24, 2002 proposal. Instructions for hand delivery of written comments is provided below.

The public record for the proposed rule is available for review in EPA's Water Docket, under Docket No. W-02-06. The Water Docket will close temporarily to prepare for moving to a new location. The closure dates are August 12 to 26, 2002. The new Water Docket address is EPA West Building, Room B135, 1301 Constitution Avenue, NW., Washington, DC, 20004. The docket will reopen on Tuesday, August 27, 2002. Beginning on that date, please call the new docket phone number, 202-566-2426, to schedule an appointment. For hand deliveries of comments on or after that date, submit such comments to the new address.

Additional information about the proposed rule is available on EPA's Web site at http://www.epa.gov/waterscience/guide/construction/.

Dated: August 1, 2002.
Geoffrey H. Grubbs,
Director, Office of Science and Technology.

[FR Doc. 02-20098 Filed 8-7-02; 8:45 am]

BILLING CODE 6560-50-P